DEPARTMENT OF TRANSPORTATION

Federal Aviation Administration

RTCA; Special Committee 186; Automatic Dependent Surveillance—Broadcast (ADS-B)

Pursuant to section 10(a)(2) of the Federal Advisory Committee Act (P.L. 92-463, 5 U.S.C., Appendix 2), notice is hereby given for Special Committee (SC)-186 meeting to be held March 13-17, 2000, starting at 9:00 a.m. The meeting will be held at RTCA, 1140 Connecticut Avenue, NW., Suite 1020, Washington, DC, 20036.

The agenda will include: (1) Welcome and Introductory Remarks; (2) Review of Meeting Agenda; (3) Review and Approval of the Previous Meeting Minutes; (4) Proposed Revision to Terms of References for SC-186; (5) Review SC-186 Activity Reports for Working Groups (WG) 1, 3 and 4; (6) Review EUROCAE WG-51 Reports for Subgroups 1 and 2; (7) Report on ADS-B “Road Map” per System Architecture; (8) Link Decision Update; (9) Update and Initial Review of 1090 MHz Minimum Operational Performance Standards—Finalized Sections; (10) Review/Approve Operational Concepts for Cockpit Display of Traffic Information (CDTI) Initial Applications, RTCA Paper No. 020-00/SC-186-145; (11) Review Action Items/Work Program; (12) Date and Location of Next Meeting; (13) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on February 15, 2000.
Janice L. Peters,
Designated Official.

[FR Doc. 00-4110 Filed 2-18-00; 8:45 am]

BILLING CODE 4910-13-M